DEPARTMENT OF TRANSPORTATION

Federal Motor Carrier Safety Administration

[Docket ID. FMCSA-2009-0291]

Qualification of Drivers; Exemption Applications; Vision

AGENCY: Federal Motor Carrier Safety Administration (FMCSA), DOT.

ACTION: Notice of applications for exemptions; request for comments.

SUMMARY: FMCSA announces receipt of applications from 24 individuals for exemptions from the vision requirement in the Federal Motor Carrier Safety Regulations. If granted, the exemptions would enable these individuals to qualify as drivers of commercial motor vehicles (CMVs) in interstate commerce without meeting the Federal vision standard.

DATES: Comments must be received on or before January 11, 2010.

ADDRESSES: You may submit comments bearing the Federal Docket Management System (FDMS) Docket ID FMCSA-2009-0291 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://www.regulations.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 24 individuals listed in this notice have each requested an exemption from the vision requirement in 49 CFR 391.41(b)(10), which applies to drivers of CMVs in interstate commerce. Accordingly, the Agency will evaluate the qualifications of each applicant to determine whether granting an exemption will achieve the required level of safety mandated by statute.

Qualifications of Applicants

Dennis J. Ameling

Mr. Ameling, age 48, has complete loss of vision in his right eye due to a traumatic injury sustained as a child that caused a corneal scar. The best corrected visual acuity in his left eye is 20/20. Following an examination in 2009, his optometrist noted, “I feel his vision will be stable in the future and that his vision is sufficient to drive a commercial vehicle as long as it is equipped with outside mirrors.” Mr. Ameling reported that he has driven straight trucks for 12 years, accumulating 1.2 million miles, and tractor-trailer combinations for 15 years, accumulating 1.7 million miles. He holds a Class A Commercial Driver's License (CDL) from Iowa. His driving record for the last 3 years shows no crashes and two convictions for moving violations in a CMV, speeding in a CMV. He exceeded the speed limit by 10 miles per hour (mph) in both incidents.

Cris D. Bush

Mr. Bush, 44, has had amblyopia in his right eye since birth. The best corrected visual acuity in his right eye is 20/100 and in his left eye, 20/20. Following an examination in 2009, his optometrist noted, “It is my opinion that Mr. Cris Bush has sufficient vision to perform the driving tasks required to operate a commercial vehicle.” Mr. Bush reported that he has driven straight trucks for 10 years, accumulating 300,000 miles, and tractor-trailer combinations for 10 years, accumulating 320,000 miles. He holds a Class A CDL from Tennessee. His driving record for the last 3 years shows no crashes and no convictions for moving violations in a CMV.

Cary Carn

Mr. Carn, 54, has a prosthetic right eye due to a traumatic injury sustained 15 years ago. The best corrected visual acuity in his left eye is 20/20. Following an examination in 2009, his optometrist noted, “It is my opinion that Cary Carn has sufficient vision to perform the driving tasks required to operate a commercial vehicle.” Mr. Carn reported that he has driven straight trucks for 10 years, accumulating 350,000 miles. He holds a Class D operator's license from New Jersey. His driving record for the last 3 years shows no crashes and one conviction for a moving violation in a CMV, unsafe operation of a motor vehicle.

Billy C. Chenault

Mr. Chenault, 58, has a retinal detachment in his right eye that occurred in 1968. The best corrected visual acuity in his right eye is 20/200 and in his left eye, 20/20. Following an examination in 2009, his optometrist noted, “It is my opinion that Mr. Chenault has sufficient vision to perform the driving tasks required to operate a commercial vehicle.” Mr. Chenault reported that he has driven straight trucks for 18 years, accumulating 810,000 miles. He holds a Class B CDL from New Mexico. His driving record for the last 3 years shows no crashes and no convictions for moving violations in a CMV.

Matthew J. Cruver

Mr. Cruver, 40, has a prosthetic left eye due to a traumatic injury sustained in 1999. The best corrected visual acuity in his right eye is 20/20. Following an examination in 2009, his optometrist noted, “I do feel this patient has sufficient vision to operate a commercial vehicle.” Mr. Cruver reported that he has driven tractor-trailer combinations for 10 years, accumulating 360,000 miles. He holds a Class A CDL from Pennsylvania. His driving record for the last 3 years shows no crashes and no convictions for moving violations in a CMV.

Harvey Curtis, Sr.

Mr. Curtis, 52, has glaucoma in his left eye since 2004. The best corrected visual acuity in his right eye is 20/25 and in his left eye, 20/70. Following an examination in 2009, his ophthalmologist noted, “In my opinion, Mr. Curtis has sufficient vision to perform the driving tasks required to operate a commercial vehicle.” Mr. Curtis reported that he has driven straight trucks for 25 years, accumulating 500,000 miles. He holds a Class C operator's license from Maryland. His driving record for the last 3 years shows no crashes and no convictions for moving violations in a CMV.

David E. Evans

Mr. Evans, 55, has had amblyopia in his right eye since childhood. The best corrected visual acuity in his right eye is 20/200 and in his left eye, 20/20. Following an examination in 2009, his optometrist noted, “My opinion is that Mr. David Evans has sufficient vision to perform the driving task required to operate a commercial vehicle.” Mr. Evans reported that he has driven tractor-trailer combinations for 6 years, accumulating 600,000 miles. He holds a Class A CDL from North Carolina. His driving record for the last 3 years shows no crashes and one conviction for a moving violation in a CMV, failure to obey a traffic sign.

Wayne W. Ferguson

Mr. Ferguson, 67, has had amblyopia in his right eye since childhood. The best corrected visual acuity in his right eye is 20/50 and in his left eye, 20/25. Following an examination in 2009, his optometrist noted, “It is my opinion that Mr. Ferguson has sufficient vision to perform driving tasks required to operate a commercial vehicle.” Mr. Ferguson reported that he has driven straight trucks for 6 months, accumulating 3,000 miles, and tractor-trailer combinations for 27 years, accumulating 2 million miles. He holds a Class A CDL from Virginia. His driving record for the last 3 years shows no crashes and no convictions for moving violations in a CMV.

Randy M. Garcia

Mr. Garcia, 34, has a prosthetic right eye due to a traumatic injury sustained 20 years ago. The best corrected visual acuity in his left eye is 20/25. Following an examination in 2009, his optometrist noted, “It is my opinion that Mr. Garcia has sufficient vision to perform the driving tasks required to operate a commercial vehicle.” Mr. Garcia reported that he has driven straight trucks for 3½ years, accumulating 175,000 miles, and tractor-trailer combinations for 3½ years, accumulating 175,000 miles. He holds a Class A CDL from New Mexico. His driving record for the last 3 years shows no crashes and no convictions for moving violations in a CMV.

Miguel Godinez

Mr. Godinez, 44, has aphakia in his right eye due to a traumatic injury sustained as a child. The best corrected visual acuity in his right eye is 20/60 and in his left eye, 20/20. Following an examination in 2009, his ophthalmologist noted, “He is able to recognize the colors of traffic control signals and he is in my medical opinion qualified to meet the visual requirements of driving a commercial vehicle.” Mr. Godinez reported that he has driven straight trucks for 6 years, accumulating 510,000 miles, and tractor-trailer combinations for 13 years, accumulating 780,000 miles. He holds a Class A CDL from California. His driving record for the last 3 years shows one crash, for which he was not cited, and no convictions for moving violations in a CMV.

Henry J. Gregoire, Jr.

Mr. Gregoire, 47, has had aphakia in his left eye due to a traumatic injury he sustained in 1981. The uncorrected visual acuity in his right eye is 20/20 and in his left eye, 5 feet/400. Following an examination in 2009, his optometrist noted, “It is my opinion that Henry has sufficient vision to perform the driving tasks required to operate commercial motor vehicles.” Mr. Gregoire reported that he has driven straight trucks for 10 years, accumulating 200,000 miles, and tractor-trailer combinations for 6 months, accumulating 34,000 miles. He holds a Class A CDL from Minnesota. His driving record for the last 3 years shows no crashes and no convictions for moving violations in a CMV.

Jason L. Hoovan

Mr. Hoovan, 30, has had amblyopia in his right eye since birth. The best corrected visual acuity in his right eye is 20/200 and in his left eye, 20/20. Following an examination in 2009, his optometrist noted, “I believe that Mr. Hoovan has sufficient vision to perform the driving tasks required to operate a commercial vehicle.” Mr. Hoovan reported that he has driven straight trucks for 3 years, accumulating 300,000 miles, and tractor-trailer combinations for 3 years, accumulating 225,000 miles. He holds a Class A CDL from Utah. His driving record for the last 3 years shows no crashes and no convictions for moving violations in a CMV.

Tom A. McCarty

Mr. McCarty, 57, has complete loss of vision in his left eye since childhood. The visual acuity in his right eye is 20/15. Following an examination in 2009, his optometrist noted that Mr. McCarty's “vision is sufficient for operation of a commercial vehicle.” Mr. McCarty reported that he has driven straight trucks for 7 years, accumulating 336,000 miles, and tractor-trailer combinations for 20 years, accumulating 1.4 million miles. He holds a Class A CDL from New Mexico. His driving record for the last 3 years shows no crashes and no convictions for moving violations in a CMV.

Carlos A. Mendez-Castellon

Mr. Mendez, 40, has had macular scarring in his right eye since childhood. The visual acuity in his right eye is hand motion vision and in his left eye, 20/20. Following an examination in 2009, his ophthalmologist noted, “In my opinion he is able to operate all of the driving tasks associated with a commercial vehicle.” Mr. Mendez reported that he has driven straight trucks for 7 years, accumulating 210,000 miles. He holds an operator's license from Virginia. His driving record for the last 3 years shows no crashes and one conviction for a moving violation in a CMV, failure to obey traffic sign.

Glenn A. Miller

Mr. Miller, 45, has had optic atrophy in his left eye since 2004. The visual acuity in his right eye is 20/15 and in his left eye, 20/60. Following an examination in 2009, his ophthalmologist noted, “From the testing done, Mr. Miller has sufficient vision to drive a commercial vehicle.” Mr. Miller reported that he has driven straight trucks for 10 years, accumulating 120,000 miles, and tractor-trailer combinations for 13 years, accumulating 455,000 miles. He holds a class A CDL from Virginia. His driving record for the last 3 years shows no crashes and no convictions for moving violations in a CMV.

Raymond R. Miller

Mr. Miller, 49, has complete loss of vision in his left eye due to a traumatic injury sustained 15 years ago. The best corrected visual acuity in his right eye is 20/15. Following an examination in 2009, his optometrist noted, “It is my opinion that his vision is stable and sufficient to perform driving tasks required to operate a commercial vehicle.” Mr. Miller reported that he has driven straight trucks for 10 years, accumulating 50,000 miles. He holds a Class A CDL from Missouri. His driving record for the last 3 years shows one crash, for which he was cited, and no moving violations in a CMV.

Russell L. Moyers

Mr. Moyers, 54, has had amblyopia in his left eye since childhood. The best corrected visual acuity in his right eye is 20/20 and in his left eye, 20/400. Following an examination in 2009, his optometrist noted, “I believe that Russell has the visual ability to operate a commercial vehicle.” Mr. Moyers reported that he has driven tractor-trailer combinations for 21 years, accumulating 2.1 million miles. He holds a Class A CDL from West Virginia. His driving record for the last 3 years shows no crashes and one conviction for a moving violation in a CMV, failure to obey a traffic sign.

William E. Norris

Mr. Norris, 48, has a prosthetic left eye due to a traumatic injury sustained in 1984. The best corrected visual acuity in his right eye is 20/15. Following an examination in 2009, his optometrist noted, “In my medical opinion, Mr. Norris' vision is more than sufficient to perform the tasks required to operate a commercial vehicle.” Mr. Norris reported that he has driven straight trucks for 15 years, accumulating 390,000 miles. He holds a Class A CDL from North Carolina. His driving record for the last 3 years shows no crashes and no convictions for moving violations in a CMV.

Donald Overton

Mr. Overton, 78, has complete loss of vision in his left eye due to a retinal detachment that occurred in 1962. The best corrected visual acuity in his right eye is 20/25. Following an examination in 2009, his optometrist noted, “I see no reason why he should be denied driving privileges as a commercial driver.” Mr. Overton reported that he has driven straight trucks for 25 years, accumulating 325,000 miles, and tractor-trailer combinations for 15 years, accumulating 300,000 miles. He holds a Class A CDL from Illinois. His driving record for the last 3 years shows no crashes and no convictions for moving violations in a CMV.

Willie L. Parks

Mr. Parks, 63, has a detached retina in his right eye sustained in 2005. The best corrected visual acuity in his right eye is count-finger-vision and in his left eye, 20/25. Following an examination in 2009, his ophthalmologist noted, “The patient has sufficient vision to perform driving tasks for a commercial vehicle.” Mr. Parks reported that he has driven tractor-trailer combinations for 12 years, accumulating 915,600 miles. He holds a Class A CDL from California. His driving record for the last 3 years shows no crashes and one conviction for a moving violation in a CMV. He was driving in the wrong lane.

Derrick A. Robinson

Mr. Robinson, 31, has complete loss of vision in his left eye due to a traumatic injury sustained in 2005. The best corrected visual acuity in his right eye is 20/20. Following an examination in 2009, his optometrist noted, “In our opinion, this patient has sufficient vision to perform the driving tasks required including the operation of a commercial vehicle.” Mr. Robinson reported that he has driven straight trucks for 7 years, accumulating 700,000 miles, and tractor-trailer combinations for 7 years, accumulating 960,960 miles. He holds a Class A CDL from California. His driving record for the last 3 years shows two crashes, one of which he was not cited for, and two convictions for moving violations in a CMV, driving in the wrong lane and speeding in a CMV. He exceeded the speed limit by 10 mph.

Clarence Robishaw, Jr.

Mr. Robishaw, 59, has a corneal scar in his left eye which occurred in 2003. The best corrected visual acuity in his right eye is 20/20 and in the left eye, count-finger-vision. Following an examination in 2009, his ophthalmologist noted, “In my opinion, Clarence Robishaw Jr. has sufficient vision to perform the driving task that is required to operate a commercial motor vehicle.” Mr. Robishaw reported that he has driven tractor-trailer combinations for 14 years, accumulating 980,000 miles. He holds a Class A CDL from New York. His driving record for the last 3 years shows no crashes and no convictions for moving violations in a CMV.

Norman J. Watson

Mr. Watson, 49, has corneal scarring in his left eye due to an injury sustained in 1982. The visual acuity in his right eye is 20/20 and in his left eye, count-finger-vision. Following an examination in 2009, his ophthalmologist noted, “It is my medical opinion that this gentleman should have no problems driving a commercial vehicle.” Mr. Watson reported that he has driven straight trucks for 28 years, accumulating 980,000 miles, and tractor-trailer combinations for 28 years, accumulating 1.3 million miles. He holds a Class A CDL from North Carolina. His driving record for the last 3 years shows three crashes, two of which he was not cited for, and no convictions for moving violations in a CMV.

Jeffrey T. Zuniga

Mr. Zuniga, 50, has a macular scar in his right due to a traumatic injury sustained as a child. The best corrected visual acuity in his right eye is 20/400 and in his left eye, 20/20. Following an examination in 2009, his optometrist noted, “In my opinion, the patient has sufficient corrected vision to perform the driving tasks required to operate a commercial vehicle.” Mr. Zuniga reported that he has driven straight trucks for 12½ years, accumulating 1.2 million miles. He holds a Class A CDL from Connecticut. His driving record for the last 3 years shows no crashes and no convictions for moving violations in a CMV.

Request for Comments

In accordance with 49 U.S.C. 31136(e) and 31315, FMCSA requests public comment from all interested persons on the exemption petitions described in this notice. The Agency will consider all comments received before the close of business January 11, 2010. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: December 2, 2009.
Larry W. Minor,
Associate Administrator for Policy and Program Development.

[FR Doc. E9-29481 Filed 12-10-09; 8:45 am]

BILLING CODE 4910-EX-P